ENVIRONMENTAL PROTECTION AGENCY

[FRL-7665-5]

Peer Consultation Workshop on Physiologically-Based Pharmacokinetic Modeling of Trichloroethylene and Its Metabolites

AGENCY: Environmental Protection Agency.

ACTION: Notice of a peer consultation workshop and public meeting.

SUMMARY: The U.S. Air Force (USAF) and the U.S. Environmental Protection Agency (EPA) are jointly announcing that Toxicology Excellence for Risk Assessment (TERA), under contract to the USAF, will convene a panel of experts and organize and conduct a peer consultation workshop to discuss physiologically-based pharmacokinetic (PBPK) modeling of trichloroethylene (TCE) and its metabolites. The public is invited to attend this workshop.

DATES: The one-day peer consultation workshop will be held on June 29, 2004, from 8 a.m. to 4:30 p.m.

ADDRESSES: The peer consultation workshop will be held at Marriott Kingsgate Conference Center at the University of Cincinnati, Cincinnati, OH. TERA, under contract to the USAF, is organizing, convening, and conducting the peer consultation workshop. To attend the workshop as an observer, register by sending an e-mail to Patricia Nance at nance@tera.org. If you wish to make comments available to panel for consideration, please provide them to TERA before June 18, 2004. You can also call Patricia Nance at 513-542-7475 ext. 25, or send a facsimile to 513-542-7487. The availability of the draft workgroup document will be announced on the TERA Web site at http://www.tera.org/vera/TCEwelcome.htm.

FOR FURTHER INFORMATION CONTACT: For more information on the workshop, contact Dr. Jay Zhao, TERA; telephone: 513-542-7475 ext. 16; facsimile: 513-542-7487; or e-mail: zhao@tera.org. Additional information on this joint USAF-EPA effort, including workshop information, registration, and logistics, will be available on the TERA Web page at http://www.tera.org/vera/TCEwelcome.htm. The USAF contact for this project is Dr. Brian Howard; telephone: (210) 536-4548; facsimile: (210) 536-1130 or e-mail: Brian.Howard@brooks.af.mil. The EPA contact for this project is Dr. Weihsueh Chiu; telephone: (202) 564-7789; facsimile: (202) 565-0079; or e-mail: chiu.weihsueh@epa.gov.

SUPPLEMENTARY INFORMATION:

Background Information

The USAF and EPA are announcing a public peer consultation workshop to discuss physiologically-based pharmacokinetic (PBPK) modeling of trichloroethylene (TCE) and its metabolites. A joint USAF-EPA workgroup, with support from TERA under contract to the USAF, has been working to develop a harmonized PBPK model for TCE and its metabolites based on the most recent science and data. The joint USAF-EPA workgroup's efforts will be summarized in a draft document that will be the basis of the peer consultation, and which will be made available to the public several weeks before the workshop. The workgroup will consider advice obtained from the peer consultation in revising and calibrating its harmonized PBPK model, and in developing its final report. The results of this joint USAF-EPA project will serve as important input to ongoing TCE risk assessment activities, including a planned multi-agency consultation with the National Academy of Sciences on TCE science issues as well as EPA's revised TCE human health risk assessment.

Dated: May 13, 2004.
Peter W. Preuss,
Director, National Center for Environmental Assessment.

[FR Doc. 04-11437 Filed 5-19-04; 8:45 am]

BILLING CODE 6560-50-P